DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of 67.11 are amended as follows:

State | City/town/county | Source of flooding | Location | * Elevation in feet (NGVD) + Elevation in feet (NAVD) # Depth in feet above ground Modified
City of Campbell, Ohio
Docket No.: FEMA-B-1012
Ohio | City of Campbell | Mahoning River | Approximately 1,400 feet upstream of Bridge Road | +827
|  |  | Approximately 7,700 feet upstream of Bridge Road | +831
|  |  | Approximately 2,700 feet downstream of Center Street | +833
|  |  | Approximately 2,000 feet downstream of Center Street | +833
* National Geodetic Vertical Datum.
+ North American Vertical Datum.
# Depth in feet above ground.
ADDRESSES
City of Campbell
Maps are available for inspection at the Administration and Finance Office, 351 Tenney Avenue, Campbell, OH 44405.

Flooding source(s) | Location of referenced elevation | * Elevation in feet (NGVD) + Elevation in feet (NAVD) # Depth in feet above ground Modified | Communities affected
Mohave County, Arizona, and Incorporated Areas
Docket Nos.: FEMA-B-7775 and FEMA-B-1007
Beaver Dam Wash | 1 mile downstream of Old U.S. 91 | +1,800 | Unincorporated Areas of Mohave County.
| 2.3 miles upstream of Old U.S. 91 | +1,926
Big Montana Wash | Approximately 1,325 feet downstream of Black Mountain Road | #1 | City of Bullhead City.
| Approximately 425 feet downstream of Ramar Road | +534
| Approximately 100 feet downstream of State Route 95 | +603
| Approximately 1,325 feet downstream of Black Mountain Road | +767
| Approximately 380 feet upstream of Tesota Road | +876
Big Montana Wash Overflow | Approximately at confluence with Big Montana Wash | #1 | City of Bullhead City.
Bojorquez Wash | Approximately 150 feet upstream of Country Club Road | #1 | City of Bullhead City.
| Approximately 120 feet upstream of Country Club Road | +504
Cerbat Wash | Approximately 700 feet downstream of Ramada Road | +2,478 | Unincorporated Areas of Mohave County.
| Approximately 250 feet upstream of Shipp Drive | +2,765
Cerbat Wash Tributary 1A | Approximately 1,400 feet downstream of Unkar Drive | +2,563 | Unincorporated Areas of Mohave County.
| Approximately 200 feet downstream of Bolsa Drive | +2,630
Chaparral Wash | Approximately at upstream side of Newberry Road | #1 | City of Bullhead City.
| Approximately 1,200 feet upstream of Acacia Road | #2
| Approximately 300 feet downstream of Country Club Road | +504
| Approximately 400 feet downstream of Country Club Road | +504
| Approximately 400 feet downstream of State Route 95 | +548
| Approximately 1,200 feet upstream of Acacia Way | +726
| Approximately 0.68 mile upstream of Acacia Way | +778
Chaparral Wash Tributary 1 | Approximately 0.48 mile downstream of Acacia Way | #1 | City of Bullhead City.
| Approximately 0.75 mile downstream of Acacia Way | #1
| Approximately 1,355 feet downstream of Acacia Way | #2
| Approximately 0.60 mile downstream of Acacia Way | #2
| Approximately 1,300 feet downstream of Acacia Way | +670
| Approximately 650 feet upstream of Acacia Way | +717
Chaparral Wash Tributary 2 | Approximately 830 feet downstream of Havasupai Road | #2 | City of Bullhead City.
| Approximately 830 feet downstream of Havasupai Road | +726
| Approximately 50 feet downstream of Havasupai Road | +749
Chemehuevi Wash | Approximately 1,170 feet downstream of Sweetwater Avenue | +669 | City of Lake Havasu, Unincorporated Areas of Mohave County.
| Approximately 0.80 mile upstream of Chicksaw Drive | +1,374
Colorado River | Approximately at the upstream side of Interstate 40 | +465 | City of Bullhead City, Unincorporated Areas of Mohave County.
| Approximately 250 feet downstream of Davis Dam | +514
Davis Wash | Approximately 700 feet upstream of La Puerta Road | #1 | City of Bullhead City.
| Approximately 0.53 mile downstream of La Puerta Road | #1
| Approximately 0.40 mile downstream of La Puerta Road | #2
| Approximately 100 feet downstream of State Route 95 | +522
| Approximately 100 feet downstream of Pegasus Ranch Road | +967
| Approximately 100 feet upstream of Pegasus Ranch Road | +987
Davis Wash Tributary 1 | Approximately 550 feet upstream of Pegasus Ranch Road | #1 | City of Bullhead City.
Davis Wash Tributary 1 of Tributary 1 | Approximately 550 feet upstream of Pegasus Ranch Road | #1 | City of Bullhead City.
Davis Wash Tributary 2 | Approximately 550 feet upstream of Pegasus Ranch Road | #1 | City of Bullhead City.
Davis Wash Tributary 3 | Approximately 530 feet upstream of Pegasus Ranch Road | #1 | City of Bullhead City.
Davis Wash Tributary 4 | Approximately 500 feet upstream of Pegasus Ranch Road | #1 | City of Bullhead City.
| Approximately 50 feet downstream of Pegasus Ranch Road | #1
Davis Wash Tributary 5 | Approximately 1,100 feet upstream of McCormick Blvd | #1 | City of Bullhead City.
Dump Wash | Approximately 100 feet upstream of Bullhead Parkway | #1 | City of Bullhead City.
| Approximately 300 feet upstream of State Route 95 | #1
| Approximately 1,850 feet downstream of Bullhead Parkway | #1
| Approximately 100 feet downstream of Bullhead Parkway | #2
| Approximately upstream side of State Route 95 | #2
| Approximately 0.40 mile upstream of Lost Hills Road | #2
El Dorado Wash | Approximately 700 feet downstream of London Bridge Road | +462. | City of Lake Havasu
| Approximately 1,320 feet upstream of Jamaica Blvd | +1276
Fort Mohave Wash | Approximately 1,250 feet upstream of State Route 95 | #1 | City of Bullhead City, Unincorporated Areas of Mohave County.
| Approximately 0.57 mile upstream of Arroyo Vista Drive | #2
| Approximately 150 feet upstream of confluence with Soto Wash | #2
Fox Wash | Approximately 0.64 mile upstream of State Route 95 | #1 | City of Bullhead City.
| Approximately 1,200 feet downstream of Tera Loma Road | #1
| Approximately 1,730 feet downstream of Bullhead Parkway | #2
| Approximately 1,450 feet downstream of State Route 95 | #2
| Approximately 700 feet downstream of State Route 95 | #3
| Approximately 0.63 mile downstream of Tera Loma Road | +491
| Approximately 600 feet downstream of State Route 95 | +511
| Approximately 0.64 mile upstream of State Route 95 | +642
| Approximately 1,700 feet downstream of Bullhead Parkway | +802
| Approximately 1,950 feet upstream of Bullhead Parkway | +903
Green Wash | Approximately 250 feet upstream of confluence with Williams Wash | +703 | City of Bullhead City.
| Approximately 1.42 mile upstream of confluence with Green Wash Tributary 2 | +1,465
Green Wash Tributary 1 | Approximately 70 feet upstream of confluence with Green Wash | +967 | City of Bullhead City.
| Approximately 2.1 miles upstream of confluence with Green Wash | +1,450
Green Wash Tributary 2 | Approximately 0.41 mile upstream of confluence with Green Wash | #1 | City of Bullhead City.
Havasupai Wash at Bullhead City | Approximately 870 feet upstream of Camino del Rio Road | #1 | City of Bullhead City.
| Approximately 870 feet upstream of Camino del Rio Road | +504
Havasupai Wash at Bullhead City Tributary 1 | Approximately 0.5 mile upstream of Miracle Mile Road | #1 | City of Bullhead City.
| Approximately 0.5 mile upstream of Miracle Mile Road | +651
| Approximately 0.82 mile upstream of Miracle Mile Road | +691
Havasupai Wash at Lake Havasu City | Approximately 1,060 feet downstream of London Bridge Road | +452 | City of Lake Havasu.
| Approximately 800 feet upstream of Paso de Oro Drive | +1,506
Highland Wash | Approximately 300 feet downstream of State Route 95 | +518 | City of Bullhead City.
| Approximately 325 feet upstream of Bullhead Parkway | +693
Indian Peak Wash | Approximately 360 feet downstream of State Route 95 | +543 | City of Lake Havasu, Unincorporated Areas of Mohave County.
| Approximately 470 feet upstream of Black Hill Drive | +1,439
Mockingbird Wash | Approximately 875 feet downstream of Osborn Drive | +754 | City of Lake Havasu.
| Approximately 0.78 mile upstream of McCulloch Blvd S | +1,258
Montana Wash | Approximately 0.72 mile upstream of Rolling Hills Road | #1 | City of Bullhead City.
| Approximately 0.42 mile upstream of Bullhead Parkway | #2
| Approximately 120 feet downstream of Riverfront Road | +505
| Approximately 1,900 feet upstream of Goldrush Road | +827
Montana Wash Overflow | Approximately 50 feet downstream of Arcadia Road | #1 | City of Bullhead City.
| Approximately upstream side of Arriba Road | #1
| Approximately 800 feet upstream of Jacarta Road | #2
Montana Wash Tributary 1 | Approximately 150 feet upstream of confluence with Montana Wash | +1,126 | City of Bullhead City.
| Approximately 250 feet upstream of Unnamed Road | +1,198
Neptune Wash | Approximately 550 feet downstream of London Bridge Road | +455 | City of Lake Havasu.
| Approximately 0.47 mile upstream of Avalon Avenue | +832
Old Trails Wash | Approximately 750 feet downstream of Third Street | +3,299 | City of Kingman.
| Approximately 1,200 feet upstream of U.S. 93/U.S. 66 | +3,428
Old Trails Wash Tributary | Approximately 790 feet downstream of Center Street | +3,361 | City of Kingman.
| Approximately 0.5 mile upstream of Buchanan Street | +3,410
Richardo Wash | Approximately 1,400 feet downstream of Terra Loma Road | #1 | City of Bullhead City.
| Approximately 50 feet downstream of State Route 95 | #1
| Approximately 100 feet upstream of State Route 95 | #2
| Approximately 1,100 feet upstream of Terra Loma Road | #2
| Approximately 800 feet upstream of confluence with Fox Wash | +491
Sacramento Wash Tributary 6 | Approximately 250 feet upstream of Bolsa Drive | +2,635 | Unincorporated Areas of Mohave County.
| Approximately 300 feet upstream of Shipp Drive | +2,762
Sacramento Wash Tributary 6C | Approximately 0.5 mile downstream of Redwall Drive | +2,668 | Unincorporated Areas of Mohave County.
| Approximately 1,025 feet upstream of Chino Drive | +2,830
Sacramento Wash Tributary 6D | Approximately 650 feet downstream of State Route 68 | +2,789 | Unincorporated Areas of Mohave County.
| Approximately 290 feet upstream of Chino Drive | +2,819
Secret Pass Wash | Approximately downstream side of Pass Canyon Road | #3 | Unincorporated Areas of Mohave County, City of Bullhead City.
| Approximately 1.18 mile upstream of Bullhead Parkway | #4
| Approximately 250 feet downstream of State Route 95 | +515
| Approximately 50 feet downstream of State Route 95 | +527
| Approximately 1.23 mile upstream of Bullhead Parkway | +1,073
| Approximately 2 miles upstream of Bullhead Parkway | +1,188
Shadow Canyon Wash | Approximately 870 feet downstream of Corwin Road | +563 | City of Bullhead City.
| Approximately 320 feet upstream of Mountain View Road | +668
Shadow Canyon Wash Overflow | Approximately upstream side of Central Park Avenue | +540 | City of Bullhead City.
| Approximately 450 feet upstream of Central Avenue | +550
Short Creek | Approximately 1.6 mile downstream of State Route 389 | +4,857 | City of Colorado City, Unincorporated Areas of Mohave County.
| Approximately 50 feet upstream of State Route 389 | +4,933
Short Creek Tributary 1 | Approximately 320 feet downstream of Township Avenue | +4,939 | City of Colorado City.
| Approximately 1,000 feet upstream of Arizona Avenue | +5,027
Silver Creek Wash | Approximately 1.4 mile upstream of Bullhead Parkway | #3 | City of Bullhead City.
| Approximately 0.56 mile upstream of State Route 95 | #3
| Approximately 1,250 feet upstream of State Route 95 | #3
| Approximately 1.04 mile upstream of State Route 95 | #3
| Approximately 500 feet downstream of Bullhead Parkway | #3
| Approximately 0.62 miles upstream of Bullhead Parkway | #4
| Approximately 500 feet upstream of Plata Caleta Road | #4
Silver Creek Wash Tributary 1 | Approximately 0.47 mile upstream of Bullhead Parkway | #1 | City of Bullhead City.
| Approximately 0.38 mile upstream of confluence with Silver Creek Wash | #3
| Approximately 200 feet upstream of confluence with Silver Creek Wash | #4
Silver Creek Wash Tributary 2 | Approximately 0.83 mile upstream of confluence with Silver Creek Wash | #2 | City of Bullhead City.
| Approximately 1,800 feet upstream of confluence Silver Creek Wash | #3
| Approximately 1,100 feet upstream of confluence with Silver Creek Wash | #4
Soto Wash | Approximately 1,800 feet upstream of State Route 95 | #1 | City of Bullhead City.
| Approximately 1,800 feet upstream of Arroyo Vista Drive | #2
| Approximately 100 feet downstream of State Route 95 | #2
| Approximately 1,300 feet upstream of Mohave Community College Road | +515
| Approximately 0.36 mile upstream of Arroyo Vista Drive | +758
| Approximately 0.65 mile upstream of Arroyo Vista Drive | +803
Thirteen Mile Wash | Approximately 75 feet upstream of Limit of Detailed Study | +2,478 | Unincorporated Areas of Mohave County.
| Approximately 600 feet upstream of Shipp Drive | +2,803
Thirteen Mile Wash Overflow 1 | Approximately 620 feet downstream of Unkar Drive | +2,575 | Unincorporated Areas of Mohave County.
| Approximately 1,100 feet upstream of Bolsa Drive | +2,658
Thirteen Mile Wash Overflow 2 | Approximately 770 feet downstream of Chuar Drive | +2,599 | Unincorporated Areas of Mohave County.
| Approximately 1,260 feet upstream of Bolsa Drive | +2,655
Thirteen Mile Wash Overflow 3 | Approximately 1,660 feet downstream of Adobe Road | +2,757 | Unincorporated Areas of Mohave County.
| Approximately 400 feet upstream of Shipp Drive | +2,793
Unnamed Wash 10 | Approximately upstream side of Airway Avenue | +3,450 | City of Kingman.
| Approximately 700 feet upstream of Interstate 40 | +3,510
Unnamed Wash 10 Overflow | Approximately 200 feet upstream of confluence with Unnamed Wash 6 | +3,491 | City of Kingman.
| Approximately 795 feet downstream of confluence with Unnamed Wash 6 | +3,499
Unnamed Wash 13 | Approximately 50 feet downstream of Ashley Street | #1 | Unincorporated Areas of Mohave County.
| Approximately 50 feet upstream of confluence with Unnamed Wash East Golf Course | #2
| Approximately 300 feet upstream of Lippan Blvd | #3
Unnamed Wash 13 East Golf Course | At approximately Clubhouse Road | #1 | Unincorporated Areas of Mohave County.
Unnamed Wash 13 Overflow | Approximately 700 feet upstream of Lippan Blvd | #1 | Unincorporated Areas of Mohave County, Fort Mojave Indian Tribe.
| Approximately 600 feet upstream of Lippan Blvd | #2
Unnamed Wash 13 Tributary 1 | Approximately 150 feet downstream of Ashley Street | #1 | Unincorporated Areas of Mohave County.
Unnamed Wash 13 Tributary 1 of Tributary 1 | Approximately downstream side of Ashley Street | #1 | Unincorporated Areas of Mohave County.
Unnamed Wash 13 Tributary 1 of Tributary 2 | Approximately upstream side of Ashley Street | #1 | Unincorporated Areas of Mohave County.
Unnamed Wash 13 Tributary 1 of Tributary 2 of Tributary 1 | Approximately 200 feet downstream of Ashley Street | #1 | Unincorporated Areas of Mohave County.
Unnamed Wash 13 Tributary 2 | Approximately 200 feet downstream of Ashley Street | #1 | Unincorporated Areas of Mohave County.
Unnamed Wash 13 Tributary 2 of Tributary 1 | Approximately 350 feet downstream of Ashley Street | #1 | Unincorporated Areas of Mohave County.
Unnamed Wash 13 West Golf Course | Approximately 50 feet downstream of Desert Lakes Drive | #1 | Unincorporated Areas of Mohave County.
Unnamed Wash 14 | Approximately 750 feet downstream of Ashley Street | #1 | Unincorporated Areas of Mohave County, Fort Mojave Indian Tribe.
| Approximately 50 feet downstream of Ashley Street | #2
| Approximately 50 feet upstream of Mountain View Road | +553
| Approximately 475 feet upstream of Antelope Drive | +676
Unnamed Wash 14 Tributary 1 | Approximately 100 feet downstream of Ashley Street | #1 | Unincorporated Areas of Mohave County.
Unnamed Wash 15 | Approximately 350 feet upstream of Boundary Cone Road | #1 | Unincorporated Areas of Mohave County.
| Approximately 400 feet downstream of Ashley Street | #2
| Approximately 400 feet upstream of Boundary Cone Road | +524
| Approximately 450 feet upstream of Bison Avenue | +652
Unnamed Wash 15 Tributary 1 | Approximately 450 feet downstream of Ashley Street | #1 | Unincorporated Areas of Mohave County.
| Approximately 900 feet upstream of Bison Avenue | #2
Unnamed Wash 6 | Approximately 280 feet downstream of Andy Devine Road | #1 | City of Kingman.
| Approximately 50 feet upstream of Andy Devine Avenue | +3,446
| Approximately 50 feet upstream of Interstate 40 | +3,491
Unnamed Wash 6 Overflow | Approximately 800 feet downstream of Railroad Tracks | +3,459 | City of Kingman.
| Approximately 1070 feet upstream of Railroad Street | +3,487
Unnamed Wash 7 (With Berm) | Approximately 50 feet upstream of Andy Devine Road | +3,502 | City of Kingman.
| Approximately 300 feet upstream of Hulapai Mountain Road | +3,530
Unnamed Wash 7 (Without Berm) | Approximately 250 feet downstream of Railroad Tracks | #1 | City of Kingman.
Unnamed Wash 9 | Approximately 100 feet downstream of Lead Street | #1 | City of Kingman.
| Approximately 800 feet upstream of Lead Street | #2
Virgin River | Approximately 2.7 miles downstream of Scenic Blvd | +1,598 | Unincorporated Areas of Mohave County.
| Approximately 1.0 mile upstream of Interstate 15 | +1,817
Wash A | Approximately 1,750 feet downstream of Redwall Drive | +2,678 | Unincorporated Areas of Mohave County.
| Approximately 150 feet upstream of Shipp Drive | +2,771
Wash B | Approximately 0.45 mile downstream of Bolsa Drive | +2,606 | Unincorporated Areas of Mohave County.
| Approximately 200 feet upstream of Shipp Drive | +2,783
Wash B Tributary 1A | Approximately 0.07 mile downstream of Redwall Drive | +2,662 | Unincorporated Areas of Mohave County.
| Approximately 1,760 feet upstream of U.S. 68 | +2,861
Wash B Tributary 1B | Approximately 900 feet downstream of Shipp Drive | +2,763 | Unincorporated Areas of Mohave County.
| Approximately 200 feet upstream of Shipp Drive | +2,777
Wash B Tributary 1C | Approximately 250 feet upstream of confluence with Wash B Tributary 1A | +2,753 | Unincorporated Areas of Mohave County.
| Approximately 150 feet upstream of Shipp Drive | +2,784
Wash C | Approximately 1,700 feet downstream of Shinarump Drive | +2,493 | Unincorporated Areas of Mohave County.
| Approximately 200 feet upstream of Shipp Drive | +2,829
Williams Wash | Approximately 1.21 mile upstream of confluence with Highland/Green Wash | #1 | City of Bullhead City.
| Approximately 1,865 feet upstream of confluence with Highland/Green Wash | #1
| Approximately 2.15 miles upstream of confluence with Highland/Green Wash | +1,244
| Approximately 622 feet upstream of La Puerta Road | +1,471
| Approximately 1,215 feet upstream of confluence with Highland/Green Wash | #2
| Approximately 1.43 mile upstream of confluence with Highland/Green Wash | #2
| Approximately 1.0 mile upstream of confluence with Highland/Green Wash | #2
| Approximately 250 feet upstream of confluence Highland/Green Wash | +703
| Approximately 1,200 feet upstream of confluence with Highland/Green Wash | +740
* National Geodetic Vertical Datum.
+ North American Vertical Datum.
# Depth in feet above ground.
ADDRESSES
City of Bullhead City
Maps are available for inspection at 1255 Marina Boulevard, Bullhead City, AZ 86442.
City of Colorado City
Maps are available for inspection at 25 South Central Street, Colorado City, AZ 86021.
City of Kingman
Maps are available for inspection at 310 North 4th Street, Kingman, AZ 86401.
City of Lake Havasu
Maps are available for inspection at 2330 McCulloch Boulevard North, Lake Havasu City, AZ 86403.
Fort Mojave Indian Tribe
Maps are available for inspection at 500 Merriman Avenue, Needles, CA 92363.
Unincorporated Areas of Mohave County
Maps are available for inspection at 700 West Beale Street, Kingman, AZ 86402.
Franklin County, Illinois, and Incorporated Areas
Docket No.: FEMA-B-1021
Big Ditch Tributary | From approximately 2,630 feet upstream of the confluence with Middle Fork Big Muddy River | +382 | Unincorporated Areas of Franklin County, City of West Frankfort.
| To approximately 790 feet downstream of County Highway 37/Logan Street | +388
Ewing Creek | From approximately 5,000 feet upstream of the confluence with Middle Fork Big Muddy River | +385 | Unincorporated Areas of Franklin County, City of West Frankfort.
| To approximately 2,500 feet upstream of County Highway 5/Deering Road | +393
Pond Creek | From Interstate 57 | +394 | Unincorporated Areas of Franklin County, City of West Frankfort.
| To approximately 2,250 feet upstream of Old Johnston City Road | +398
Rend Lake | From the Rend Lake Dam | +415 | Unincorporated Areas of Franklin County.
| To approximately 5,650 feet west of the intersection of North County Line Road and Conservation Lane | +415
* National Geodetic Vertical Datum.
+ North American Vertical Datum.
# Depth in feet above ground.
ADDRESSES
City of West Frankfort
Maps are available for inspection at City Hall, 110 North Jefferson Street, West Frankfort, IL 62896.
Unincorporated Areas of Franklin County
Maps are available for inspection at the Franklin County Highway Department, 13034 Oddfellow Lane, Benton, IL 62812.
Hinds County, Mississippi, and Incorporated Areas
Docket No.: FEMA-B-1014
Allen Creek Tributary | 500 feet upstream of Hampstead Road | +318 | City of Clinton.
| 750 feet upstream of Woodstone Place | +337
Bakers Creek | At Mount Moriah Road | +145 | Unincorporated Areas of Hinds County.
| 250 feet upstream of railroad | +205
Bakers Creek Tributary 1 | 9,200 feet upstream of confluence with Bakers Creek | +151 | Unincorporated Areas of Hinds County.
| 12,000 feet upstream of confluence with Bakers Creek | +157
Bakers Creek Tributary 2-1 | 1,050 feet upstream of confluence with Bakers Creek Tributary 2 | +262 | Unincorporated Areas of Hinds County.
| 5,200 feet upstream of confluence with Bakers Creek Tributary 2 | +288
Big Black River | 4,600 feet upstream of confluence with Fourteenmile Creek | +118 | Unincorporated Areas of Hinds County.
| 1,600 feet upstream of confluence with Bogue Falia Creek | +154
Big Creek | 150 feet upstream of State HWY 18 | +362 | Unincorporated Areas of Hinds County.
| 1,150 feet upstream of State HWY 18 | +364
Big Creek Tributary 1 | 300 feet upstream of Terry Road | +268 | Unincorporated Areas of Hinds County.
| 6,700 feet upstream of Gary Road | +310
Bitter Creek | 200 feet downstream of Learned Oakley Road | +178 | Town of Learned, Unincorporated Areas of Hinds County.
| 8,000 feet upstream of Learned Oakley Road | +195
Bogue Chitto Creek | At county boundary | +193 | Unincorporated Areas of Hinds County.
| 3,200 feet downstream of Natchez Trace Parkway | +246
| 400 feet upstream of US HWY 49 | +284
| 50 feet downstream of Hilda Road | +320
Bogue Chitto Creek Tributary 10 | 4,500 feet upstream of confluence with Bogue Chitto Creek | +210 | Unincorporated Areas of Hinds County.
| 9,900 feet upstream of confluence with Bogue Chitto Creek | +215
Bogue Chitto Creek Tributary 11 | 3,600 feet upstream of confluence with Bogue Chitto Creek | +200 | Unincorporated Areas of Hinds County.
| 5,150 feet upstream of confluence with Bogue Chitto Creek | +213
Bogue Chitto Creek Tributary 12 | 3,400 feet downstream of Carsley Road | +200 | Unincorporated Areas of Hinds County.
| 1,000 feet upstream of Carsley Road | +223
Bogue Chitto Creek Tributary 13 | 2,800 feet upstream of Carsley Road | +198 | Unincorporated Areas of Hinds County.
| 100 feet upstream of Carsley Road | +213
Bogue Chitto Creek Tributary 14 | 500 feet downstream of Springdale Road | +200 | Unincorporated Areas of Hinds County.
| 1,500 feet upstream of Springdale Road | +211
Bogue Chitto Creek Tributary 15 | 1,525 feet downstream of Springdale Road | +195 | Unincorporated Areas of Hinds County.
| 200 feet downstream of county boundary | +204
Bogue Chitto Creek Tributary 2 | 3,400 feet upstream of confluence with Bogue Chitto Creek | +261 | Unincorporated Areas of Hinds County.
| 300 feet downstream of Northside Drive | +272
Bogue Chitto Creek Tributary 3 | 1,500 feet upstream of confluence with Bogue Chitto Creek | +268 | Unincorporated Areas of Hinds County.
| 3,700 feet upstream of confluence with Bogue Chitto Creek | +281
Bogue Chitto Creek Tributary 4 | 600 feet downstream of confluence with Bogue Chitto Creek | +275 | Unincorporated Areas of Hinds County.
| 3,250 feet upstream of Northside Drive | +330
Bogue Chitto Creek Tributary 5 | 275 feet upstream of Northside Drive | +283 | Unincorporated Areas of Hinds County.
| 100 feet upstream of Richardson Road | +289
Bogue Chitto Creek Tributary 6 | 1,200 feet upstream ojf confluence with Bogue Chitto Creek | +293 | Unincorporated Areas of Hinds County.
| 4,850 feet upstream of confluence with Bogue Chitto Creek | +324
Bogue Chitto Creek Tributary 6-1 | 375 feet upstream of confluence with Bogue Chitto Creek Tributary 6 | +302 | Unincorporated Areas of Hinds County.
| 1,350 feet upstream of confluence with Bogue Chitto Creek Tributary 6 | +310
Bogue Chitto Creek Tributary 7 | 1,100 feet upstream of confluence with Bogue Chitto Creek | +244 | Unincorporated Areas of Hinds County.
| 300 feet upstream of US HWY 49 | +286
Bogue Chitto Creek Tributary 8 | 1,300 feet upstream of confluence with Bogue Chitto Creek | +236 | Unincorporated Areas of Hinds County.
| 7,300 feet upstream of County Line Road | +290
Bogue Chitto Creek Tributary 8-1 | 1,450 feet upstream of confluence with Bogue Chitto Creek Tributary 8 | +257 | Unincorporated Areas of Hinds County.
| 250 feet upstream of US HWY 49 | +275
Bogue Chitto Creek Tributary 9 | 5,500 feet upstream of confluence with Bogue Chitto Creek | +222 | Unincorporated Areas of Hinds County.
| 6,500 feet upstream of railroad | +305
Bogue Chitto Creek Tributary 9-1 | 1,700 feet downstream of US HWY 49 | +228 | Unincorporated Areas of Hinds County.
| 700 feet upstream of Golf Club Road | +247
Bogue Chitto Creek Tributary 9-2 | 1,600 feet downstream of MacLean Road | +247 | Unincorporated Areas of Hinds County.
| 2,400 feet upstream of MacLean Road | +256
Bogue Chitto Creek Tributary 9-3 | 1,000 feet upstream of MacLean Road | +258 | Unincorporated Areas of Hinds County.
| 4,850 feet upstream of railroad | +291
Bogue Chitto Creek Tributary 9-4 | 500 feet downstream of Billy Bell Road | +273 | Unincorporated Areas of Hinds County.
| 5,700 feet upstream of railroad | +322
Chestnut Creek Tributary 1 | 200 feet downstream of county boundary | +269 | Unincorporated Areas of Hinds County.
| 3,150 feet upstream of county boundary | +288
Chestnut Creek Tributary 3 | At county boundary | +291 | Unincorporated Areas of Hinds County.
| 4,500 feet upstream of county boundary | +306
Fleetwood Creek | 400 Feet Downstream of I-20 | +202 | Unincorporated Areas of Hinds County.
| 2,400 feet upstream of confluence with Fleetwood Creek Tributary 4 | +248
Fleetwood Creek Tributary 1 | 1,700 feet upstream of confluence with Fleetwood Creek | +221 | Unincorporated Areas of Hinds County.
| 7,900 feet upstream of confluence with Fleetwood Creek | +240
Fleetwood Creek Tributary 2 | 2,250 feet upstream of confluence with Fleetwood Creek | +228 | Unincorporated Areas of Hinds County.
| 350 feet upstream of Private Farm Road | +250
Fleetwood Creek Tributary 3 | 1,250 feet upstream of confluence with Fleetwood Creek | +229 | Unincorporated Areas of Hinds County.
| 7,900 feet upstream of confluence with Fleetwood Creek | +256
Fleetwood Creek Tributary 4 | 200 feet upstream of confluence with Fleetwood Creek | +242 | Unincorporated Areas of Hinds County.
| 3,600 feet upstream of confluence with Fleetwood Creek | +254
Fourteenmile Creek | 9,450 feet downstream of Newman Road | +119 | Unincorporated Areas of Hinds County.
| 400 feet upstream of Old Port Gibson Road | +226
Fourteenmile Creek Tributary 1 | 650 feet downstream of Smith Station Road | +135 | Unincorporated Areas of Hinds County.
| 10,650 feet upstream of Smith Station Road | +157
Fourteenmile Creek Tributary 2 | 1,800 feet downstream of US HWY 18 | +224 | Unincorporated Areas of Hinds County.
| 1,400 feet downstream of Dry Grove Road | +252
French Creek Tributary 1 | 1,550 feet downstream of US HWY 80 | +301 | City of Clinton.
| 1,700 feet upstream of US HWY 80 | +316
French Creek Tributary 2 | 1,100 feet upstream of confluence with French Creek Tributary 1 | +302 | City of Clinton.
| 50 feet upstream of Clinton Boulevard | +329
French Creek Tributary 3 | 1,450 feet upstream of confluence with French Creek | +300 | City of Clinton, City of Jackson.
| 3,450 feet upstream of confluence with French Creek | +308
French Creek Tributary 4 | 1,600 feet upstream of confluence with French Creek | +309 | City of Jackson.
| 1,700 feet upstream of Norman Road | +339
French Creek Tributary 5 | 300 feet upstream of HWY 80 | +326 | City of Jackson.
| 1,000 feet upstream of HWY 80 | +327
Hanging Moss Creek Tributary 1 | 1,100 feet upstream of confluence with Hanging Moss Creek | +328 | City of Jackson, Unincorporated Areas of Hinds County.
| 3,200 feet upstream of confluence with Hanging Moss Creek | +338
Hanging Moss Creek Tributary 2 | 400 feet downstream of Graven Road | +338 | Unincorporated Areas of Hinds County.
| 3,500 feet upstream of Graven Road | +355
Hanging Moss Creek Tributary 3 | 500 feet upstream of confluence with Hanging Moss Creek | +334 | Unincorporated Areas of Hinds County.
| 4,900 feet upstream of confluence with Hanging Moss Creek | +355
Hanging Moss Creek Tributary 5-1 | 250 feet downstream of Beasley Road | +314 | City of Jackson.
| 950 feet upstream of Westwind Road | +344
Harris Creek | 6,700 feet upstream of Old HWY 51 | +280 | Unincorporated Areas of Hinds County.
| 6,500 feet upstream of Stubbs Road | +333
Harris Creek Tributary 1 | 700 feet upstream of confluence with Harris Creek | +301 | Unincorporated Areas of Hinds County.
| 6,700 feet upstream of Green Gable Road | +333
Jackson Creek | 5,500 feet upstream of confluence with Bakers Creek | +150 | Unincorporated Areas of Hinds County.
| 2,200 feet upstream of US HWY 467 | +204
Limekiln Creek | 7,100 feet upstream of confluence with Bakers Creek | +204 | Unincorporated Areas of Hinds County.
| At county boundary | +245
Limekiln Creek Tributary 1 | 4,100 feet upstream of confluence with Limekiln Creek | +211 | Unincorporated Areas of Hinds County.
| 14,800 feet upstream of confluence with Limekiln Creek | +236
Limekiln Creek Tributary 1-1 | 2,000 feet downstream of Stigger Road | +214 | Unincorporated Areas of Hinds County.
| 6,800 feet upstream of Stigger Road | +233
Limekiln Creek Tributary 2 | 400 feet downstream of US HWY 49 | +219 | Unincorporated Areas of Hinds County.
| 2,900 feet upstream of confluence with Limekiln Creek Tributary 2-1 | +242
Limekiln Creek Tributary 2-1 | 100 feet downstream of railroad | +234 | Unincorporated Areas of Hinds County.
| 400 feet upstream of Lanewood Road | +258
Limekiln Creek Tributary 3 | 4,000 feet upstream of confluence with Limekiln Creek | +226 | Unincorporated Areas of Hinds County.
| 300 feet downstream of county boundary | +236
Lindsey Creek | 600 feet downstream of Norrell Road | +244 | City of Clinton, Unincorporated Areas of Hinds County.
| 700 feet upstream of Natchez Trace Parkway | +270
| 550 feet downstream of Neal Street | +312
| 200 feet upstream of Oak Hill Circle | +330
Lindsey Creek Tributary 1 | 4,350 feet upstream of confluence with Lindsey Creek | +245 | Unincorporated Areas of Hinds County.
| 5,900 feet upstream of confluence with Lindsey Creek | +258
Lindsey Creek Tributary 3 | 2,000 feet upstream of confluence with Lindsey Creek | +277 | Unincorporated Areas of Hinds County.
| 150 feet upstream of I-20 | +295
Little Bakers Creek | 1,100 feet downstream of Private Farm Road | +213 | Town of Bolton, Unincorporated Areas of Hinds County.
| 200 feet upstream of railroad | +281
Little Bakers Creek Tributary 1 | 1,800 feet upstream of confluence with Little Bakers Creek | +220 | Unincorporated Areas of Hinds County.
| 2,600 feet upstream of I-20 | +239
Little Bakers Creek Tributary 2 | 700 feet upstream of confluence with Little Bakers Creek | +230 | Unincorporated Areas of Hinds County.
| 5,400 feet upstream of confluence with Little Bakers Creek | +262
Little Bakers Creek Tributary 3 | 400 feet upstream of Williamson Road | +254 | Unincorporated Areas of Hinds County.
| 900 feet upstream of I-20 | +268
Little Bakers Creek Tributary 3-1 | 500 feet upstream of Williamson Road | +254 | Unincorporated Areas of Hinds County, City of Clinton.
| 4,250 feet upstream of Williamson Road | +280
Little Bakers Creek Tributary 4 | 1,500 feet upstream of confluence with Little Bakers Creek | +254 | Unincorporated Areas of Hinds County.
| 5,900 feet upstream of confluence with Little Bakers Creek | +270
Little Bakers Creek Tributary 5 | 950 feet upstream of confluence with Little Bakers Creek | +268 | City of Clinton.
| 2,700 feet upstream of confluence with Little Bakers Creek | +280
Little Bakers Creek Tributary 6 | 500 feet upstream of confluence with Little Bakers Creek | +271 | City of Clinton.
| 1,500 feet upstream of railroad | +291
Little Creek | 400 feet downstream of Flowers Road | +310 | Unincorporated Areas of Hinds County.
| 100 feet upstream of Flowers Road | +310
Lynch Creek | 150 feet downstream of Bonita Drive | +355 | City of Jackson.
| 300 feet downstream of Flag Chapel Road | +363
| 1,350 feet upstream of Flag Chapel Road | +377
Lynch Creek Tributary 5-1 | 1,050 feet upstream of confluence with Lynch Creek | +335 | City of Jackson.
| 4,150 feet upstream of confluence with Lynch Creek | +352
McDonald Creek | 600 feet downstream of HWY 18 | +212 | Unincorporated Areas of Hinds County.
| 200 feet upstream of Dry Grove Road | +247
Patrol Creek | 1,000 feet upstream of confluence with Lindsey Creek | +268 | City of Clinton.
| 2,900 feet upstream of confluence with Lindsey Creek | +268
Pearl River Tributary 1 | 500 feet downstream of railroad | +260 | Unincorporated Areas of Hinds County.
| 2,300 feet upstream of railroad | +299
Pearl River Tributary 2 | 1,000 feet downstream of railroad | +265 | Unincorporated Areas of Hinds County.
| 2,600 feet upstream of I-55 | +330
Rhodes Creek | 15,000 feet upstream of North Siwell Road | +391 | Unincorporated Areas of Hinds County.
| 16,000 feet upstream of North Siwell Road | +396
Rhodes Creek Tributary 1 | 3,150 feet upstream of confluence with Rhodes Creek | +258 | Unincorporated Areas of Hinds County.
| 2,000 feet upstream of confluence with Rhodes Creek | +271
Rhodes Creek Tributary 4 | 2,800 feet upstream of confluence with Rhodes Creek | +275 | Unincorporated Areas of Hinds County.
| 1,150 feet upstream of Dac Road | +338
Rhodes Creek Tributary 5 | 2,300 feet upstream of confluence with Rhodes Creek | +293 | Unincorporated Areas of Hinds County.
| 3,900 feet upstream of confluence with Rhodes Creek | +299
Rhodes Creek Tributary 6 | 2,100 feet upstream of confluence with Rhodes Creek | +295 | Unincorporated Areas of Hinds County.
Robertson Creek | 2,800 feet upstream of confluence with Rhodes Creek | +299 | Unincorporated Areas of Hinds County.
| 1,900 feet upstream of Flowers Road | +306
Smith Creek Tributary 4 | 200 feet upstream of Wells Road | +263 | Unincorporated Areas of Hinds County.
| 5,500 feet upstream of Wells Road | +312
Snake Creek | 4,000 feet upstream of US HWY 18 | +283 | Unincorporated Areas of Hinds County.
| 5,600 feet upstream of confluence with Snake Creek Tributary 1 | +313
Snake Creek Tributary 1 | 450 feet downstream of Midway Road | +306 | Unincorporated Areas of Hinds County.
| 1,050 feet upstream of Midway Road | +317
Straight Fence Creek | 10,500 feet upstream of confluence with Bogue Chitto Creek | +203 | Unincorporated Areas of Hinds County.
| 750 feet downstream of Williamson road | +241
Straight Fence Creek Tributary 1 | 750 feet downstream of McGuffee Road | +217 | Unincorporated Areas of Hinds County.
| 200 feet downstream of Clinton-Tinnin Road | +240
Straight Fence Creek Tributary 1-1 | 700 feet downstream of McGuffee Road | +217 | Unincorporated Areas of Hinds County.
| 600 feet upstream of McGuffee Road | +226
Straight Fence Creek Tributary 2 | 800 feet downstream of McGuffee Road | +217 | Unincorporated Areas of Hinds County.
| 2,000 feet upstream of confluence with Straight Fence Creek Tributary 2-1 | +238
Straight Fence Creek Tributary 2-1 | 1,350 feet upstream of confluence with Straight Fence Creek Tributary 2 | +235 | Unincorporated Areas of Hinds County.
| 3,400 feet upstream of confluence with Straight Fence Creek Tributary 2 | +242
Straight Fence Creek Tributary 3 | 3,800 feet upstream of confluence with Straight Fence Creek | +218 | Unincorporated Areas of Hinds County.
| 100 feet downstream of Jimmy Williams Road | +254
Straight Fence Creek Tributary 3-1 | 300 feet upstream of confluence with Straight Fence Creek Tributary 3 | +245 | Unincorporated Areas of Hinds County.
| 2,800 feet upstream of McGuffee Road | +263
Straight Fence Creek Tributary 4 | 1,000 feet upstream of confluence with Straight Fence Creek | +222 | Unincorporated Areas of Hinds County.
| 1,500 feet upstream of Noah Johnson Road | +247
Straight Fence Creek Tributary 5-1 | 900 feet upstream of confluence with Straight Fence Creek Tributary 5 | +246 | Unincorporated Areas of Hinds County.
| 3,050 feet upstream of confluence with Straight Fence Creek Tributary 5 | +259
Straight Fence Creek Tributary 6 | 200 feet downstream of Williamson Road | +252 | Unincorporated Areas of Hinds County.
| 4,300 feet upstream of confluence with Straight Fence Creek Tributary 6-2 | +259
Straight Fence Creek Tributary 6-1 | 1,600 feet upstream of confluence with Straight Fence Creek Tributary 6 | +245 | Unincorporated Areas of Hinds County.
| 5,350 feet upstream of confluence with Straight Fence Creek Tributary 6 | +257
Straight Fence Creek Tributary 6-2 | 400 feet upstream of confluence with Straight Fence Creek Tributary 6 | +258 | Unincorporated Areas of Hinds County.
| 1,300 feet upstream of confluence with Straight Fence Creek Tributary 6 | +265
Straight Fence Creek Tributary 7 | 1,900 feet downstream of Pinehaven Place | +264 | City of Clinton, Unincorporated Areas of Hinds County.
| 100 feet downstream of Pinehaven Road | +285
Stream B | 400 feet upstream of Joe Cocker Road | +236 | Unincorporated Areas of Hinds County.
| 500 feet downstream of county boundary | +263
Stream B Tributary 1 | 1,400 feet upstream of confluence with Stream B | +250 | Unincorporated Areas of Hinds County.
| 2,800 feet upstream of confluence with Stream B | +260
Stream B Tributary 2 | 200 feet downstream of Clincy Road | +248 | Unincorporated Areas of Hinds County.
| At county boundary | +258
Straight Fence Creek Tributary 5 | 2,800 feet upstream of confluence with Straight Fence Creek | +236 | Unincorporated Areas of Hinds County.
| 6,800 feet upstream of confluence with Straight Fence Creek | +274
Terrell Creek | 600 feet downstream of Fairchilds Road | +169 | Unincorporated Areas of Hinds County.
| 2,000 feet upstream of Unnamed Field Road | +194
Town Creek | 1,300 feet upstream of I-220 | +350 | City of Jackson.
| 4,400 feet upstream of Forest Road | +369
Town Creek Tributary 2 | 100 feet upstream of Michael Avalon Street | +328 | City of Jackson.
| 700 feet upstream of Michael Avalon Street | +328
Trahon Creek Tributary 3 | 250 feet upstream of Lake Catherine Dam | +325 | City of Jackson.
Turkey Creek | 2,000 feet downstream of Mount Moriah Road | +167 | Unincorporated Areas of Hinds County.
| 4,200 feet upstream of US HWY 467 | +244
Turkey Creek Tributary 1 | 2,000 feet upstream of confluence with Turkey Creek | +206 | Unincorporated Areas of Hinds County.
| 4,200 feet upstream of US HWY 467 | +235
Turkey Creek Tributary 2 | 5,000 feet upstream of confluence with Turkey Creek | +227 | Unincorporated Areas of Hinds County, Town of Terry.
| 4,200 feet upstream of Natchez Trace Parkway | +245
Twelvemile Creek | 8,000 feet upstream of confluence with Fourteenmile Creek | +155 | Unincorporated Areas of Hinds County.
| 3,400 feet upstream of confluence with Fourteenmile Creek | +178
Vaughn Creek | 6,500 feet downstream of Volley Campbell Road | +286 | Town of Terry, Unincorporated Areas of Hinds County.
| 2,800 feet upstream of Volley Campbell Road | +308
Vaughn Creek Tributary 1 | 4,200 feet upstream of confluence with Vaughn Creek | +272 | Unincorporated Areas of Hinds County.
| 300 feet upstream of Jack Johnson Road | +291
Vaughn Creek Tributary 1-1 | 2,700 feet upstream of confluence with Vaughn Creek Tributary 1 | +281 | Unincorporated Areas of Hinds County.
| 3,500 feet upstream of confluence with Vaughn Creek Tributary 1 | +285
Vaughn Creek Tributary 3 | 1,600 feet upstream of confluence with Vaughn Creek | +292 | Unincorporated Areas of Hinds County.
| 2,000 feet upstream of confluence with Vaughn Creek Tributary 3 | +301
| 650 feet upstream of Jack Johnson Road | +314
| 5,500 feet upstream of confluence with Vaughn Creek Tributary 3 | +320
Vaughn Creek Tributary 3-2 | 1,000 feet upstream of confluence with Vaughn Creek Tributary 3 | +308 | Unincorporated Areas of Hinds County.
| 150 feet upstream of Cassidy Road | +317
* National Geodetic Vertical Datum.
+ North American Vertical Datum.
# Depth in feet above ground.
ADDRESSES
City of Clinton
Maps are available for inspection at City Hall, 300 Jefferson Street, Clinton, MS 39056.
City of Jackson
Maps are available for inspection at the Department of Public Works, 200 South President Street, Jackson, MS 39205.
Town of Bolton
Maps are available for inspection at the Town Hall, 202 Bolton-Raymond Road, Bolton, MS 39041.
Town of Learned
Maps are available for inspection at 521 Cherry Street, Learned, MS 39154
Town of Terry
Maps are available for inspection at the Town Hall, 315 Cunningham Avenue, Terry, MS 39170.
Unincorporated Areas of Hinds County
Maps are available for inspection at the Hinds County Permit and Zoning Office, 127 West Main Street, Raymond, MS 39154.

Flooding source(s) | Location of referenced elevation | * Elevation in feet (NGVD) + Elevation in feet (NAVD) # Depth in feet above ground ^ Elevation in meters (MSL) Modified | Communities affected
Commonwealth of Puerto Rico County, Puerto Rico, and Incorporated Areas
Docket No.: FEMA-B-7765
Atlantic Ocean—Entire Shoreline of the Commonwealth of Puerto Rico | Lowest elevation located at approximately 0.8 kilometers northwest of intersection of Carretera 466 and Carretera Municipal | ^2.7 | Commonwealth of Puerto Rico, Municipality of Ponce.
| Highest elevation located at shoreline, approximately 0.9 kilometer northwest of intersection of Carretera 681 and Calle B | ^13.7
Caribbean Sea | Approximately 550 meters southwest of the intersection of Calle Dr Vidal and Calle 33 | ^1.5 | Commonwealth of Puerto Rico, Municipality of Ponce.
| Shoreline, approximately 2.7 kilometers southwest of the intersection of Carretera 307 and Calle A | ^4.6
Isla Culebra/Atlantic Ocean | Approximately 1.6 kilometers northwest of the intersection of Calle 1 and Carretera 251 | ^1.5 | Commonwealth of Puerto Rico.
| Shoreline, approximately 3.0 kilometers northeast of the intersection of Calle 1 and Carretera 251 (Punta Flamenco) | ^14.3
Isla Culebra/Ensenada Honda | Approximately 90 meters southeast of the intersection of Calle Luis Munoz Marin and Carretera 250 | ^3 | Commonwealth of Puerto Rico.
| Shoreline, approximately 4.0 kilometers southeast of the intersection of Calle Luis Munoz Marin and Carretera 250 | ^8.8
Isla Vieques/Caribbean Sea | Approximately 3.0 kilometers southwest of the intersection of Carretera 200 and Camino Puerto Diablo | ^2.4 | Commonwealth of Puerto Rico.
| Shoreline, approximately 6.9 kilometers southwest of the intersection of Carretera 201 and Carretera 996 | ^3.8
Isla Vieques/Vieques Passage | Approximately 9.2 kilometers northwest of the intersection of Carretera 201 and Carretera 996 | ^2.4 | Commonwealth of Puerto Rico.
| Shoreline, approximately 3.7 kilometers northwest of the intersection of Carretera 201 and Carretera 996 | ^6.2
Isla Vieques/Vieques Sound | Approximately 9.7 kilometers southeast of the intersection of Carretera 200 and Camino Puerto Diablo | ^2.7 | Commonwealth of Puerto Rico.
| Shoreline, approximately 9.8 kilometers southeast of the intersection of Carretera 200 and Camino Puerto Diablo | ^4.1
Quebrada Cambute | At confluence with Rio Canavanillas | ^4.9 | Commonwealth of Puerto Rico.
| Approximately 790 meters upstream of confluence with Rio Canovanillas | ^12.1
Quebrada Honda | Approximately 2,800 meters upstream of the confluence with Rio Cibuco | ^17 | Commonwealth of Puerto Rico.
| Approximately 2,330 meters upstream of Puerto Rico Route 2 | ^74.2
| At confluence with Rio Guanajibo | ^89.5
| Approximately 920 meters upstream of Sector Jeraldo | ^106.1
Quebrada Mabu | At confluence with Rio Humacao | ^13.9 | Commonwealth of Puerto Rico.
| Approximately 460 meters upstream of Calle B | ^43.3
Quebrada Mariana | At confluence with Rio Humacao | ^19 | Commonwealth of Puerto Rico.
| Approximately 3,400 meters upstream of Puerto Rico Highway 30 | ^75.2
Quebrada Mariana Tributary | At confluence with Quebrada Mariana | ^20.5 | Commonwealth of Puerto Rico.
| Approximately 110 meters upstream of Camino Manolo Lopez | ^32.2
Quebrada la Mina | Approximately 220 meters downstream of Puerto Rico Route 997 | ^6.1 | Commonwealth of Puerto Rico.
| Approximately 930 meters upstream of Puerto Rico Route 201 | ^77.7
Quebrada la Mina Tributary | Confluence with Quebrada la Mina | ^45.6 | Commonwealth of Puerto Rico.
| Approximately 755 meters upstream of confluence with Quebrada la Mina | ^82.3
Rio Bairoa | At confluence with Rio Grande de Loiza Reach 2 | ^50.9 | Commonwealth of Puerto Rico.
| Approximately 290 meters upstream of Calle Gardena | ^90.1
Rio Caguitas | At confluence of Rio Grande de Loiza Reach 2 | ^51 | Commonwealth of Puerto Rico.
| Approximately 1,830 meters upstream of Calle Canaboncito | ^81.2
Rio Canas | Confluence with Rio Matilde | ^10.4 | Commonwealth of Puerto Rico, Municipality of Ponce.
| Approximately 520 meters upstream of Avenida Ponce De Leon | ^40.3
Rio Culebrinas (at San Sebastian) | Approximately 1,120 meters downstream of Calle Jose Torres Pino | ^57.3 | Commonwealth of Puerto Rico.
| Approximately 1,160 meters upstream of Carretera 119 | ^69
Rio Culebrinas (at San Sebastian) Tributary | At confluence with Rio Culebrinas (at San Sebastian) | ^60.8 | Commonwealth of Puerto Rico.
| Approximately 710 meters upstream of Calle Hostos Cabrera | ^64.1
Rio Culebrinas (downstream reach) | Approximately 473 meters upstream of Puerto Rico Highway 2 | ^8.7 | Commonwealth of Puerto Rico.
| Approximately 1,210 meters upstream of Calle Concepcion Vera Ayala | ^18.6
Rio Fajardo | Approximately 1,140 meters upstream of mouth | ^1 | Commonwealth of Puerto Rico.
| Approximately 2,050 meters upstream of Carretera 977 | ^60.7
Rio Grande de Anasco | Approximately 300 meters upstream of mouth | ^2 | Commonwealth of Puerto Rico.
| Approximately 2,370 meters upstream of Carretera 406 | ^20
Rio Grande de Humacao | Approximately 230 meters above mouth | ^2 | Commonwealth of Puerto Rico.
| Approximately 1,920 meters upstream of Carretera 914 | ^46.5
Rio Grande de Loiza Reach 1 | Approximately 25 meters upstream of Puerto Rico Highway 3 | ^13.1 | Commonwealth of Puerto Rico.
| Approximately 5,120 meters upstream of Puerto Rico Highway 181 | ^28.1
Rio Grande de Loiza Reach 2 | Approximately 3,640 meters downstream of Puerto Rico Highway 30 | ^49.5 | Commonwealth of Puerto Rico.
| Approximately 2,700 meters upstream of Carretera 183 | ^96.4
Rio Grande de Manati | Approximately 130 meters upstream of mouth | ^3 | Commonwealth of Puerto Rico.
| Approximately 100 meters upstream of Puerto Rico Route 145 | ^49
Rio Guanajibo | Approximately 50 meters downstream of Carretera 102 | ^2.4 | Commonwealth of Puerto Rico.
| Approximately 2,150 meters upstream of Carretera 368 | ^113
Rio Guatemala | At confluence with Rio Culebrinas (at San Sebastian) | ^53.6 | Commonwealth of Puerto Rico.
| Approximately 1,650 meters upstream of Carretera 111 | ^71.4
Rio Guayanes | Approximately 450 meters upstream of mouth | ^3.3 | Commonwealth of Puerto Rico.
| Approximately 4,330 meters upstream of Carretera 182 | ^34.3
Rio Guayo | Approximately 300 meters upstream of the confluence with Rio Inabon | ^45.8 | Commonwealth of Puerto Rico, Municipality of Ponce.
| Approximately 44 meters upstream of Puerto Rico Route 512 | ^156.1
Rio Gurabo | At confluence with Rio Grande de Loiza Reach 2 | ^46.8 | Commonwealth of Puerto Rico.
| Approximately 1,800 meters upstream of Carretera 31 | ^71.4
Rio Inabon | Approximately 96 meters upstream of mouth | ^2.4 | Commonwealth of Puerto Rico, Municipality of Ponce.
| Approximately 7,005 meters upstream of Calle 1 | ^132.5
Rio Jacaguas | Approximately 96 meters upstream of mouth | ^2.4 | Commonwealth of Puerto Rico, Municipality of Ponce.
| Approximately 162 meters upstream of Puerto Rico Route 149 | ^77.4
Rio Jacaguas (at Villalba) | Approximately 1,180 meters downstream of Puerto Rico Route 150 | ^133.4 | Commonwealth of Puerto Rico.
| Approximately 2,010 meters upstream of Puerto Rico Route 561 | ^196
Rio Limones | At confluence with Rio Guayanes | ^14.8 | Commonwealth of Puerto Rico.
| Approximately 120 meters upstream of Carretera 902 | ^37.6
Rio Matilde | Approximately 800 meters downstream of Puerto Rico Route 52 | ^2.1 | Commonwealth of Puerto Rico.
| Confluence with Rio Canas and Rio Pastillo | ^10.3
Rio Pastillo | Confluence with Rio Matilde | ^10.4 | Commonwealth of Puerto Rico, Municipality of Ponce.
| Approximately 80 meters upstream of Puerto Rico Route 132 | ^42
Rio Sabana | Approximately 875 meters above mouth | ^2.7 | Commonwealth of Puerto Rico.
| Approximately 1,050 meters upstream of Carretera 983 | ^26.5
Rio Turabo | At confluence with Rio Grande de Loiza Reach 2 | ^57.4 | Commonwealth of Puerto Rico.
| Approximately 7,500 meters upstream of Calle Georgetti | ^105.8
Rio Valenciano | At confluence with Rio Gurabo | ^59.8 | Commonwealth of Puerto Rico.
| Approximately 1,040 meters upstream of Carretera 928 | ^70
Vieques Passage | Approximately 3.9 kilometers southeast of the intersection of Carretera 3 and Carretera 31 | ^1.8 | Commonwealth of Puerto Rico.
| Shoreline, approximately 4.1 kilometers southeast of the intersection of Carretera 3 and Carretera 31 (Punta Lima) | ^9.8
Vieques Sound | At intersection of Forrestal Drive and Tarawa Drive | ^3.4 | Commonwealth of Puerto Rico.
| Shoreline, approximately 3.1 kilometers northeast of intersection of Avenida el Conquistador and Carretera Cabezas | ^5.2
* National Geodetic Vertical Datum.
+ North American Vertical Datum.
# Depth in feet above ground.
^ Mean Sea Level, rounded to the nearest 0.1 meter.
ADDRESSES
Commonwealth of Puerto Rico
Maps are available for inspection at the Puerto Rico Planning Board, Minilas Government Center, North Building, 16th Floor, East Jose de Diego Avenue, Stop 22, San Juan, PR 00940.
Municipality of Ponce
Maps are available for inspection at Ponce City Hall, 23 Calle Villa, Ponce, PR 00731.

Flooding source(s) | Location of referenced elevation | * Elevation in feet (NGVD) + Elevation in feet (NAVD) # Depth in feet above ground Modified | Communities affected
Yakima County, Washington, and Incorporated Areas
Docket No.: FEMA-B-1010
Naches River | Approximately 300 feet downstream of I-82 | +1,185 | Unincorporated Areas of Yakima County, City of Yakima, Town of Naches, Town of Selah.
| Approximately 0.74 mile upstream of Hwy 12 | +1,632
Naches River Split Flow A | Approximately at Pence Road | +1,170 | Unincorporated Areas of Yakima County.
| Approximately 0.57 miles upstream of Cypress Road | +1,241
* National Geodetic Vertical Datum.
+ North American Vertical Datum.
# Depth in feet above ground.
ADDRESSES
City of Yakima
Maps are available for inspection at 129 North 2nd Street, Yakima, WA 98901.
Town of Naches
Maps are available for inspection at 29 East 2nd Street, Naches, WA 98937.
Town of Selah
Maps are available for inspection at 115 West Naches Avenue, Selah, WA 98942.
Unincorporated Areas of Yakima County
Maps are available for inspection at 128 North 2nd Street, Yakima, WA 98901.
Roane County, Tennessee, and Incorporated Areas
Docket No.: FEMA-B-1014
Caney Creek | 143 feet downstream of confluence with Postoak Creek | +746 | Unincorporated Areas of Roane County.
| 2,087 feet upstream of confluence with Tennessee River | +746
Clinch River | 2,372 feet upstream of confluence with Tennessee River | +747 | City of Oak Ridge, City of Harriman, Unincorporated Areas of Roane County.
| 964 feet downstream of confluence with Young Creek | +747
Clinch River | 144 feet downstream of confluence with Caney Creek East | +748 | Unincorporated Areas of Roane County.
| 6.3 miles upstream up SH 95 | +796
Emory River | 1,463 feet upstream of confluence with Clinch River | +747 | City of Kingston, Unincorporated Areas of Roane County.
| 600 feet upstream of confluence with Swan Pond Creek | +748
Smith Creek | 3,150 feet upstream of confluence with Tennessee River | +747 | Unincorporated Areas of Roane County, City of Kingston.
| 411 feet downstream of Paint Rock Ferry Road | +747
Tennessee River | 5,880 feet downstream of confluence with Caney Creek | +746 | Unincorporated Areas of Roane County, City of Kingston.
| 1,140 Feet upstream of confluence with Hines Creek | +750
Whites Creek | 2.6 miles downstream of confluence with Black Creek | +746 | Unincorporated Areas of Roane County.
| 1,900 feet upstream of confluence with Black Creek | +791
* National Geodetic Vertical Datum.
+ North American Vertical Datum.
# Depth in feet above ground.
ADDRESSES
City of Harriman
Maps are available for inspection at 300 North Roane Street, Harriman, TN 37748.
City of Kingston
Maps are available for inspection at 125 West Cumberland Street, Kingston, TN 37763.
City of Oak Ridge
Maps are available for inspection at 200 South Tulane Avenue, Oak Ridge, TN 37830.
Unincorporated Areas of Roane County
Maps are available for inspection at 200 East Race Street, Kingston, TN 37763.

(Catalog of Federal Domestic Assistance No. 97.022, “Flood Insurance.”)

[FR Doc. E9-27113 Filed 11-9-09; 8:45 am]

BILLING CODE 9110-12-P